DEPARTMENT OF VETERANS AFFAIRS

[OMB Control No. 2900-0073]

Agency Information Collection (VA Enrollment Certification) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before March 26, 2009.

ADDRESSES: Submit written comments on the collection of information through http://www.Regulations.gov or to VA's OMB Desk Officer, OMB Human Resources and Housing Branch, New Executive Office Building, Room 10235, Washington, DC 20503 (202) 395-7316. Please refer to “OMB Control No. 2900-0073” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@va.gov. Please refer to “OMB Control No. 2900-0073.”

SUPPLEMENTARY INFORMATION: Title: VA Enrollment Certification, VA Form 22-1999.

OMB Control Number: 2900-0073.

Type of Review: Extension of a currently approved collection.

Abstract: School officials and employers complete VA Form 22-1999 to report and certify a claimant's enrollment in an educational program. The data is used to determine the amount of benefits payable and whether the claimant requested an advanced or accelerated payment.

An agency may not conduct or sponsor, and a person is not required to respond to a collection of information unless it displays a currently valid OMB control number. The Federal Register Notice with a 60-day comment period soliciting comments on this collection of information was published on December 15, 2008, at page 76101.

Affected Public: Not-for-profit institutions.

Estimated Annual Burden:

a. Electronically—104,262 hours.

b. Paper copy—55,855 hours.

Estimated Average Burden per Respondent:

c. Electronically—8 minutes.

d. Paper copy—10 minutes.

Frequency of Response: On occasion.

Estimated Number of Respondents:

a. Electronically—781,967.

b. Paper copy—335,129.

Dated: February 17, 2009.
By direction of the Secretary.
Denise McLamb,
Program Analyst, Enterprise Records Service.

[FR Doc. E9-3874 Filed 2-23-09; 8:45 am]

BILLING CODE 8320-01-P